DEPARTMENT OF AGRICULTURE

Forest Service

Information Collection; National Woodland Owner Survey

AGENCY: Forest Service, USDA.

ACTION: Notice; request for comment.

SUMMARY: In accordance with the Paperwork Reduction Act of 1995, the Forest Service is seeking comments from all interested individuals and organizations on the reinstated information collection, National Woodland Owner Survey.

DATES: Comments must be received in writing on or before May 20, 2008 to be assured of consideration. Comments received after that date will be considered to the extent practicable.

ADDRESSES: Comments concerning this notice should be addressed to Brett Butler, USDA Forest Service, 160 Holdsworth Way, Amherst, MA 01003.

Comments also may be submitted via facsimile to (413) 545-1860 or by e-mail to bbutler01@fs.fed.us.

The public may inspect comments received at 160 Holdsworth Way, Room 303, Amherst, MA 01003 during normal business hours. Visitors are encouraged to call ahead to (413) 545-1387 to facilitate entry to the building. Additional comments can be viewed at www.fia.fs.fed.us/nwos.

FOR FURTHER INFORMATION CONTACT: Brett Butler, Northern Research Station, (413) 545-1387. Individuals who use telecommunication devices for the deaf (TDD) may call the Federal Relay Service (FRS) at 1-800-877-8339 twenty-four hours a day, every day of the year, including holidays.

SUPPLEMENTARY INFORMATION:

Title: National Woodland Owner Survey.

OMB Number: 0596-0078 (reinstatement).

Type of Request: Reinstatement.

Abstract: The Forest Service's Forest Inventory and Analysis (FIA) program conducts the National Woodland Owner Survey (NWOS) to increase our understanding of:

• Who owns the forests of the United States;

• Why they own it;

• How they have used it; and

• How they intend to use it.

This information is used by policy analysts, foresters, educators, and researchers to facilitate the planning and implementation of forest policies and programs.

The Forest Service's direction and authority to conduct the NWOS is from the Forest and Range Land Renewable Resources Planning Act of 1974 and the Forest and Range Land Renewable Resources Act of 1978. These acts assign responsibility for the inventory and assessment of forest and related renewable resources to the Forest Service. Additionally, the importance of an ownership survey in this inventory and assessment process is highlighted in Section 253(c) of the Agricultural Research, Extension, and Education Reform Act of 1998 and the recommendations of the Second Blue Ribbon Panel on the Forest Inventory and Analysis Program.

Previous iterations of the NWOS were conducted in 1978, 1993, and 2002-2006. Approval for the last iteration of the NWOS expired on December 31, 2006. Between 2002 and 2006, the NWOS was implemented on an annual basis to provide more robust and current information and to conform with the overall FIA sampling protocols. As planned, approval for the information collection was allowed to lapse after 2006, to permit a full assessment of the program that has now been completed. If reinstated, the NWOS will operate for another 5-year cycle, with federal approval being sought as necessary to cover the full survey cycle, before the next full reassessment occurs. Information will be collected related to:

• The characteristics of the owners' landholdings;

• Ownership objectives;

• Forest use and management;

• Owners' concerns;

• Future uses of the forest land; and

• Landowner demographics.

The NWOS provides widely cited benchmarks for the number, extent, and characteristics of private forest land owners of the United States. These results have been used to assess the sustainability of forest resources at national, regional, and state levels; to implement and assess forest land owner assistance programs; and to answer a variety of questions with topics ranging from fragmentation to the economics of private timber production.

The respondents will be a statistically selected group of individuals, families, American Indian tribes, partnerships, corporations, nonprofit organizations, and other private groups that own forest land in the United States. Public records will be used to collect names and addresses for a systematic set of points identified as forest land. The number of forest-land owners to be contacted in each state will be determined by the number of private forest-land owners and the sampling intensity.

The NWOS will utilize a mixed-mode survey technique involving a self-administered mail questionnaire and telephone interviews. First, a pre-notice letter or postcard will be sent to all potential respondents describing this information collection and explaining why the information is being collected. Second, a questionnaire with a cover letter and pre-paid return envelope will be mailed to the potential respondents. The cover letter will reiterate the purpose of this information collection and provide the respondents with all legally required information. Third, a reminder will be mailed to thank the respondents and encourage the non-respondents to respond. Those who have yet to respond will be sent a new questionnaire, cover letter, and pre-paid return envelope. Telephone interviews will be used for follow-up with non-respondents.

FIA personnel will administer the mail portion of this information collection. The telephone follow-ups will be conducted by the National Agricultural Statistics Service, U.S. Department of Agriculture. Data will be compiled and edited by FIA personnel.

FIA personnel will analyze the collected data. National, regional, and state-level results will be distributed through print and/or electronic media.

This information collection will generate scientifically based, up-to-date information about private forest-land owners in the United States. The results of these efforts will provide more reliable information on this important and dynamic segment of the United States population, thus facilitating more complete assessments of the country's forest resources, and improved planning and implementation of forestry programs.

Estimate of Annual Burden: 20 minutes.

Type of Respondents: Individuals, families, American Indian Tribes, partnerships, corporations, nonprofit organizations, and other private groups that own forest land.

Estimated Annual Number of Respondents: 7,500.

Estimated Annual Number of Responses per Respondent: 1.

Estimated Total Annual Burden on Respondents: 2,500 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: March 14, 2008.
David A. Cleaves,
Associate Deputy Chief, Research & Development.

[FR Doc. E8-5710 Filed 3-20-08; 8:45 am]

BILLING CODE 3410-11-P